DEPARTMENT OF DEFENSE

Department of the Army; Corps of Engineers

Availability of the Draft Environmental Assessment for the Green Brook Flood Control Project, Segments A and N

AGENCY: Department of the Army, U.S. Army Corps of Engineers, DoD.

ACTION: Notice of availability.

SUMMARY: The U.S. Army Corps of Engineers (USACE), New York District, is issuing this notice to announce the availability for public review and comment of a draft Environmental Assessment (EA) for the proposed project modification of the Green Brook Flood Control Project in Segments A and N. The environmental impacts of the project were previously evaluated in the Final Environmental Impact Statement (FEIS) for the Proposed Plan for the Green Brook Flood Control Project in the Green Brook Sub-Basin, Somerset, Middlesex, and Union Counties, New Jersey, filed in August 1980, and the Final Supplemental Environmental Impact Statement (FSEIS) and Final General Reevaluation Report (FGRR) for the Proposed Plan for the Green Brook Flood Control Project in the Green Brook Sub-Basin, Somerset, Middlesex, and Union Counties, New Jersey, filed in May 1997. The EA documents and addresses the environmental impacts of the following project changes: (1) Buy-outs of properties in place of other flood proofing measures for up to 18 properties at Prospect Place, Borough of Middlesex, Middlesex County, in Segment N of the project; (2) Buy-outs of up to an additional 4 properties at Prospect Place, not previously identified to receive non-structural flood protection; and (3) By-outs of up to three commercial properties along Raritan Avenue and Lincoln Boulevard, Borough of Middlesex, Middlesex County, to eliminate the need for construction of structural flood protection elements in Segment A of the project which had included a levee and floodwall alignment with pump station. Congressional authorization of the post authorization project change was included in the Energy and Water Development Appropriations Act of 2002, Public Law 107-258. It is anticipated that the proposed non-structural alternatives for flood protection in Segment A and Segment N of the project will provide benefits to the environmental quality of the floodplain in the area and reduce adverse impacts of the project to forested wetland and upland habitat. Public comments on the EA will assist in the Corps' evaluation of the project modification and will be reflected in the final EA.

DATES: The draft EA will be available for public review from April 22, 2002 through May 22, 2002. Written comments must be received by May 22, 2002.

FOR FURTHER INFORMATION CONTACT: Ms. Megan Grubb, Project Biologist, Planning Division, Environmental Analysis Branch, U.S. Army Corps of Engineers, New York District, 26 Federal Plaza, Room 2146, New York, New York, 10278-0090, at (202) 264-5759 or at megan.b.grubb@usace.army.mil. Written comments are to be provided to Ms. Grubb.

SUPPLEMENTARY INFORMATION: The overall Green Brook basin encompasses sixty-five (65)square miles within the State of New Jersey in the counties of Somerset, Middlesex, and Union and Incorporates the Green Brook sub-basin of the Raritan River Basin, a short reach of the Raritan River along the border of the Borough of Bound Brook and the Middle Brook tributary to the Raritan River. This EA addresses project changes for project Segment A and Prospect Place in project Segment N in the Borough of Middlesex, Middlesex County, along Green Brook and Ambrose Brook, due north of the conference of these tributaries and the confluence with the Raritan River.

Public coordination and communications with the Borough of Middlesex, the Green Brook Flood Commission, and the State of New Jersey, since the time of release of the 1997 FSEIS and GFRR, have yielded a locally preferred plan for the Prospect Place area that differs slightly from the recommended plan identified in those documents. The Hurricane Floyd storm event, which occurred in 1999, caused significant destruction to the Green Brook sub-basin and raised concerns over the adequacy of flood protection provided by the National Economic Development (NED) plan for the area. The local sponsors determined that a locally preferred plan of buy-outs for up to twenty-two (22) properties along Prospect Place would be supported in substitution of other flood proofing measures that would not prevent damages from a reoccurrence of a storm event similar to the 1999 Hurricane Floyd storm.

The local sponsors for the Green Brook Flood Control Project also requested that three commercial properties, along Raritan Avenue and Lincoln Boulevard, that were proposed to be protected by a proposed levee/floodwall as described in the Corps' 1997 recommended NED plan, be bought out as part of the project plan. Ten other properties along Raritan Avenue, that were proposed to be protected by the Segment A levee alignment on the east side of Ambrose Brook, were bought out by the Federal Emergency Management Agency and the State of New Jersey following the 1999 storm event. Expansion of the buy-out area to include the three properties at the south end of Raritan Avenue and the intersection with Lincoln Boulevard reduces the flood protection need for a levee and floodwall in Segment A. The elimination of the levee and floodwall alignment and a supporting pump station would yield a project cost savings, as well as reduce adverse environmental impacts of the project.

Luz D. Oritz,
Army Federal Liaison Officer.

[FR Doc. 02-9644 Filed 4-18-02; 8:45 am]

BILLING CODE 3710-06-M